DEPARTMENT OF HOMELAND SECURITY

Office of the Secretary

[DHS-2005-0056]

Privacy Impact Assessment

AGENCY: Department of Homeland Security, United States Visitor and Immigrant Status Indicator Technology Program.

ACTION: Notice of availability of Privacy Impact Assessment.

SUMMARY: The Department of Homeland Security intends to modify the United States Visitor and Immigrant Status Indicator Technology Program to conduct the second phase of a live test of the technology required to read biometrically enabled travel documents that comply with international standards. As a result, US-VISIT is revising its Privacy Impact Assessment to discuss the impact of Phase II of the live test on privacy. This revised Privacy Impact Assessment is available on the Web site of the Privacy Office of the Department of Homeland Security, http://www.dhs.gov/privacy, and on the US-VISIT Web site, http://www.dhs.gov/usvisit. It is also available by written request to US-VISIT.

ADDRESSES: You may submit comments on the revised Privacy Impact Assessment, identified by Docket Number DHS-2005-0056, by one of the following methods:

• Federal eRulemaking Portal: http://www.regulations.gov. Follow the instructions for submitting comments.

• Fax: (202) 298-5201 (not a toll-free number).

• E-mail: usvisitprivacy@dhs.gov.

• Mail: Steve Yonkers, Privacy Officer, US-VISIT, Department of Homeland Security, Washington, DC 20528.

Instructions: All submissions received must include the agency name and docket number for this notice. All comments received will be posted without change to http://www.regulations.gov, including any personal information provided.

Docket: For access to the docket to read background documents or comments received, go to http://www.regulations.gov.

FOR FURTHER INFORMATION CONTACT: Steve Yonkers, Privacy Officer, US-VISIT, Department of Homeland Security, Washington, DC 20528, by telephone (202) 298-5200 or facsimile (202) 298-5201; Maureen Cooney, Acting Chief Privacy Officer, Department of Homeland Security, Arlington, VA 22202 by telephone (571) 227-3813 or facsimile (571) 227-4171.

SUPPLEMENTARY INFORMATION: On June 16, 2005, the United States Visitor and Immigrant Status Indicator Technology (US-VISIT) Program announced its intention to conduct a live test of the technology required to read biometrically enabled travel documents that comply with international standards. In connection with Phase I of that test, US-VISIT published a revised version of its Privacy Impact Assessment (PIA) addressing the privacy concerns associated with the live test. (70 FR 35110).

US-VISIT is now set to begin Phase II of the live test, which will operate from January 15, 2006, until April 15, 2006. During Phase II, basic access controls of e-Passports will be tested against the selected U.S. document reader solution at one U.S. port of entry and on international airport. Because the implementation of Phase II modifies the privacy risk associated with the US-VISIT Program, the Department of publishing another update to its PIA.

The revised Privacy Impact Assessment is available on the Web site of the Privacy Office of the Department of Homeland Security, http://www.dhs.gov/privacy, and on the US-VISIT Web site, http://www.dhs.gov/usvisit. It is also available by written request to US-VISIT at the address provided above.

Dated: January 6, 2005.
Maureen Cooney,
Acting Chief Privacy Officer, Department of Homeland Security.

[FR Doc. E6-766 Filed 1-23-06; 8:45 am]

BILLING CODE 4410-10-P